DEPARTMENT OF TRANSPORTATION

Federal Aviation Administration

14 CFR Part 39

[Docket No. FAA-2012-0999; Directorate Identifier 2012-NM-049-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 Freighter series airplanes, Model A330-200 series airplanes, Model A330-300 series airplanes, Model A340-200 series airplanes, and Model A340-300 series airplanes. This proposed AD was prompted by a report of an in-flight turn back after the nose landing gear (NLG) did not retract after take-off. This proposed AD would require repetitive overhaul of the NLG retraction actuator. We are proposing this AD to prevent failure of the retraction actuator, which could cause collapse of the NLG after touchdown and possible injury to flightcrew and passengers.

DATES: We must receive comments on this proposed AD by November 8, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; phone: (425) 227-1138; fax: (425) 227-1149.

SUPPLEMENTARY INFORMATION:

Comments Invited

We invite you to send any written relevant data, views, or arguments about this proposed AD. Send your comments to an address listed under the ADDRESSES section. Include “Docket No. FAA-2012-0999; Directorate Identifier 2012-NM-049-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0034, dated February 29, 2012 (referred to after this as “the MCAI”), to correct an unsafe condition for the specified products. The MCAI states:

An A330 aeroplane experienced an in-flight turn back due to inability to retract the NLG [nose landing gear] after take-off.

The subsequent technical investigations revealed that the NLG retraction actuator eye-end fitting was detached from the retraction actuation rod, that both the eye-end male threads and piston rod female threads were almost completely stripped, and that there was evidence of significant corrosion on these parts. Further investigations have shown that corrosion caused the retraction actuator eye failure.

This condition, if not corrected, could lead to NLG collapse after touchdown, potentially resulting in damage to the aeroplane and injury to its occupants.

For the reasons described above, this [EASA] AD requires accomplishment of an overhaul of the NLG retraction actuator. This [EASA] AD also defines the Time Between Overhaul (TBO) for the NLG retraction actuator to be 10 years.

You may obtain further information by examining the MCAI in the AD docket.

Relevant Service Information

Airbus has issued Mandatory Service Bulletins A330-32-3255 and A340-32-4291, both including Appendices 01 and 02, both dated October 13, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 65 products of U.S. registry. We also estimate that it would take about 16 work-hours per product to comply with the basic requirements of this proposed AD. The average labor rate is $85 per work-hour. Based on these figures, we estimate the cost of the proposed AD on U.S. operators to be $88,400, or $1,360 per product.

Should an operator elect to accomplish an optional replacement instead, we estimate that any optional replacement action would take about 16 work-hours and require parts costing $94,000 for a cost of $95,360 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0999; Directorate Identifier 2012-NM-049-AD.

(a) Comments Due Date

We must receive comments by November 8, 2012.

(b) Affected ADs

None.

(c) Applicability

This AD applies to the airplanes, certificated in any category, identified in paragraphs (c)(1) and (c)(2) of this AD.

(1) Airbus A330-201, A330-202, A330-203, A330-223, A330-223F, A330-243, A330-243F, A330-301, A330-302, A330-303, A330-321, A330-322, A330-323, A330-341, A330-342, and A330-343 series airplanes, all manufacturer serial numbers (MSN).

(2) Airbus A340-211, A340-212, A340-213, A340-311, A340-312, and A340-313 airplanes, all MSN.

(d) Subject

Air Transport Association (ATA) of America Code 32; Landing gear.

(e) Reason

This AD was prompted by a report of an in-flight turn-back after the nose landing gear (NLG) did not retract after take-off. We are issuing this AD to prevent failure of the retraction actuator, which could cause collapse of the NLG after touchdown and possible injury to flightcrew and passengers.

(f) Compliance

You are responsible for having the actions required by this AD performed within the compliance times specified, unless the actions have already been done.

(g) Actions

At the applicable compliance time specified in paragraph (g)(1) or (g)(2) of this AD, whichever occurs later, do an overhaul of the NLG retraction actuator, in accordance with the Accomplishment Instructions of Airbus Mandatory Service Bulletin A330-32-3255, excluding Appendices 01 and 02, dated October 13, 2011 (for Model A330 airplanes); or Airbus Mandatory Service Bulletin A340-32-4291, excluding Appendices 01 and 02, dated October 13, 2011 (for Model A340 airplanes). Repeat the overhaul thereafter at intervals not to exceed 10 years.

(1) Prior to the accumulation of 10 years since the NLG retraction actuator's first flight on an airplane or from its first flight following its last overhaul.

(2) At the applicable time specified in paragraphs (g)(2)(i) and (g)(2)(ii) of this AD.

(i) If, on the effective date of this AD, the NLG retraction actuator has accumulated more than 8 years, and less than 14 years, from its first flight on an airplane: Within 24 months after the effective date of this AD or prior to the accumulation of 15 years since the NLG retraction actuator's first flight on an airplane, whichever occurs first.

(ii) If, on the effective date of this AD, the NLG retraction actuator has accumulated 14 years or more since its first flight on an airplane: Within 12 months after the effective date of this AD.

(h) Parts Installation Limitation

As of the effective date of this AD, do not install on an airplane any NLG retraction actuator, unless in compliance with the requirements of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; phone: (425) 227-1138; fax: (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to MCAI European Aviation Safety Agency (EASA) Airworthiness Directive 2012-0034, dated February 29, 2012, and the service information identified in paragraphs (j)(1)(i) and (j)(1)(ii) of this AD, for related information.

(i) Airbus Mandatory Service Bulletin A330-32-3255, excluding Appendices 01 and 02, dated October 13, 2011.

(ii) Airbus Mandatory Service Bulletin A340-32-4291, excluding Appendices 01 and 02, dated October 13, 2011.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued in Renton, Washington, on September 12, 2012.
Ali Bahrami,
Manager, Transport Airplane Directorate, Aircraft Certification Service.

[FR Doc. 2012-23433 Filed 9-21-12; 8:45 am]

BILLING CODE 4910-13-P